DEPARTMENT OF AGRICULTURE

Forest Service

Shoreline Outfitter/Guide Environmental Impact Statement

AGENCY: Forest Service, USDA.

ACTION: Revision of the notice of intent to prepare an environmental impact statement for the saltwater shoreline-based outfitter-guide capacity previously published in Federal Register (65 FR 2575-2576, Jan. 18, 2000). This revision is in response to public comment and includes changes in the title, proposed action, and project schedule. The project area has been expanded to include the Tracy Arm-Fords Terror Wilderness.

SUMMARY: The Department of Agriculture, Forest Service, will prepare an Environmental Impact Statement (EIS) to authorize commercial outfitter/guide activities within the Admiralty Island National Monument and Juneau, Hoonah and Sitka Ranger Districts of the Tongass National Forest including the Tracy Arm-Fords Terror Wilderness. The analysis will consider shoreline-based commercial recreation use. The decision to prepare an EIS is a result of initial public involvement that began with public scoping in October 1998. The Record of Decision will disclose how the Forest Service has decided to allocate shoreline-based recreation capacity for commercial and noncommercial recreation uses.

The recreation capacity of the study area has been determined in a previous analysis of available shoreline recreational capacity based on the Recreation Opportunity Spectrum, Tongass Forest Plan standards and guidelines dealing with social encounters, and physical conditions such as anchorages, shoreline facilities, and resource concerns. Proposed commercial allocations are based on a percentage of the total recreation carrying capacity of individual Use Areas, or subunits within the Use Areas. Under the Proposed Action, allocation to commercial guided use would range from 10 to 40 percent of the total recreation carrying capacity within each Use Area and would depend on considerations such as season, distance from communities, subsistence use and potential impacts to resources. Areas would be identified for large group use. The Proposed Action no longer allocates commercial recreation capacity specifically to brown bear hunting guides; they are included in the general commercial allocation. The Proposed Action provides for limited commercial allocations in the spring and fall season to provide more opportunities for a primitive recreation experience. A No Action alternative and other alternatives which respond to significant issues will be developed, analyzed and compared in the Draft EIS (DEIS).

DATES: To be most useful in this analysis scoping comments should be received by May 1, 2001; however scoping comments will be accepted at any time. Comments received in response to the original Notice of Intent are included in this analysis.

ADDRESSES: Please send written comments to: Sitka Supervisor's Office, Tongass National Forest, 204 Siginaka Way, Sitka, AK 99835 Attention: Shoreline Outfitter/Guide EIS.

FOR FURTHER INFORMATION CONTACT: Bob Dalrymple, Planning Team Leader, or Mary Beth Nelson, Recreation Specialist, at the Sitka Supervisor's Office, Tongass National Forest, 204 Siginaka Way, Sitka, AK 99835 telephone (907) 747-6671.

SUPPLEMENTARY INFORMATION: The Forest Service will continue to seek information, comments, and assistance from Federal, State and local agencies, tribal organizations, individuals, and organizations that may be interested in, or affected by the proposed activities. Comments received as a result of both the earlier public involvement and the current scoping will be included in this analysis. All comments will be analyzed to identify issues to be considered in the EIS. Tentative issues for analysis in the EIS identified from previous scoping include potential effects of the allocation to economic opportunities, conflicts between commercial operations, and effects on noncommercial resident users. Impacts to wildlife habitat and other forest resources, and the effect on subsistence uses will be included in the analysis. Based on the results of scoping and the resource capabilities within the study area, alternatives including a no-action alternative will be developed, analyzed, and compared. The DEIS is projected to be filed with the EPA in May 2001. The comment period on the DEIS will be 45 days from the date the Environmental Protection Agency publishes the notice of availability in the Federal Register. Comments on the DEIS will be considered and responded to in the Final EIS (FEIS), anticipated by July 2001.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp v. NRDC, 435 U.S. 519, 553 (1978). Also, environmental objections that could be raised at the DEIS stage but that are not raised until after completion of the FEIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the FEIS. To assist the Forest Service in identifying and considering issues and concerns on the proposed action, comments on the DEIS should be as specific as possible. It is also helpful if comments refer to specific pages or chapters of the DEIS. Comments may also address the adequacy of the DEIS or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this Proposed Action and will be available for public inspection and May be Released Under FOIA. Comments submitted anonymously will be accepted and considered; however, those who submit anonymous comments will not have standing to appeal the subsequent decision (36 CFR parts 215 or 217).

Responsible Official

Fred Salinas, Assistant Forest Supervisor, Tongass National Forest, 204 Siginaka Way, Sitka, Alaska 99835-7316, is the responsible official. In making the decision, the responsible official will consider the comments, responses, disclosure of environmental consequences, and applicable laws, regulations, and policies. The responsible official will state the rationale for the chosen alternative in the Record of Decision.

Dated: March 23, 2001.
Fred S. Salinas,
Assistant Forest Supervisor.

[FR Doc. 01-8402 Filed 4-4-01; 8:45 am]

BILLING CODE 3410-11-M